COMMODITY FUTURES TRADING COMMISSION

Meeting of Technology Advisory Committee

AGENCY: Commodity Futures Trading Commission (“CFTC”)

ACTION: Notice.

SUMMARY: The CFTC announces that on Wednesday, June 20, 2012, the CFTC's Technology Advisory Committee (“TAC”) will hold a public meeting at the CFTC's Washington, DC headquarters, from 10:00 a.m. to 5:00 p.m. The TAC will focus on updates from the TAC Subcommittee on Automated and High Frequency Trading (HFT), HFT strategies, and liquidity aggregation across designated contract markets (DCMs) and swap execution facilities (SEFs).

DATES: The meeting will be held on June 20, 2012 from 10:0 a.m. to 5:00 p.m. Members of the public who wish to submit written statements in connection with the meeting should submit them by June 19, 2012.

ADDRESSES: The meeting will take place in the Conference Center at the CFTC's headquarters, Three Lafayette Centre, 1155 21st Street NW., Washington, DC 20581. Written statements should be submitted to: Commodity Futures Trading Commission, Three Lafayette Centre, 1155 21st Street NW., Washington, DC 20581, attention: Office of the Secretary. Please use the title “Technology Advisory Committee” in any written statement you may submit. Any statements submitted in connection with the committee meeting will be made available to the public.

FOR FURTHER INFORMATION CONTACT: Laura Gardy, Commodity Futures Trading Commission, Three Lafayette Centre, 1155 21st Street NW., Washington, DC 20581, (202) 418-5354.

SUPPLEMENTARY INFORMATION: The TAC meeting will focus on two significant issues facing the futures and swaps industries as the Commission continues to finalize rules under the Dodd Frank Act. Those issues are: (1) HFT and (2) liquidity aggregation across DCMs and SEFs. The meeting will be open to the public with seating on a first-come, first-served basis. Members of the public who wish to listen to the meeting by telephone may do so by calling a toll-free telephone line to contact to a live, listen-only audio feed. Call-in participants should be prepared to provide their first name, last name and affiliation. Additionally, a video recording of the meeting will be published through a link on the CFTC's Web site.

All written submissions provided to the CFTC in any form will also be published on the Web site of the CFTC.

Domestic Toll Free: 1-800-857-5042.

International Toll: Under Related Documents to be posted on www.cftc.gov.

Conference ID: 4121146.

Call Leader Name: Michael Jones.

Pass Code/Pin Code: 5940208.

Authority: 5 U.S.C. app. 2 § 10(a)(2)

By the Commodity Futures Trading Commission.
Dated: June 5, 2012.
Sauntia Warfield,
Assistant Secretary of the Commission.

[FR Doc. 2012-14002 Filed 6-8-12; 8:45 am]

BILLING CODE P